DEPARTMENT OF VETERANS AFFAIRS

Health Services Research and Development Service Scientific Merit Review Board, Notice of Meeting

The Department of Veterans Affairs gives notice under the Federal Advisory Committee Act, 5 United States Code Appendix 2, that the Health Services Research and Development Service Scientific Merit Review Board will conduct telephone conference call and web-conference based meetings of its six Health Services Research (HSR) subcommittees and its Nursing Research Initiative (NRI) subcommittee. The HSR subcommittees are: HSR 1—Medical Care and Clinical Management; HSR 2—Patient and Special Population Determinants of Health and Care; HSR 3—Methods and Modeling for Research, Informatics, and Surveillance; HSR 4—Mental and Behavioral Health; HSR 5—Health Care System Organization and Delivery, and HSR 6—Post-acute and Long-term Care. The telephone conference call of its NRI subcommittee will be held on March 1, 2012, from 10 a.m. to 2 p.m. The HSR subcommittee meetings will be held on March 5-6, 2013, from 8 a.m. to 6 p.m. Each of these meetings will originate from offices within the Office of Research and Development, 131 M Street NE., Washington, DC.

The purpose of the Board is to review health services research and development applications involving the measurement and evaluation of health care services, the testing of new methods of health care delivery and management, and nursing research. Applications are reviewed for scientific and technical merit, mission relevance, and the protection of human and animal subjects. Recommendations regarding funding are submitted to the Chief Research and Development Officer.

Each subcommittee meeting of the Board will be open to the public at the start of the first day of the meetings for approximately one half-hour to cover administrative matters and to discuss the general status of the program. The remaining portion of each subcommittee meeting will be closed for the discussion, examination, reference, and oral review of the intramural research proposals and critiques. During the closed portion of each subcommittee meeting, discussion and recommendations will include qualifications of the personnel conducting the studies as well as research information. The disclosure of this information would constitute an unwarranted invasion of personal privacy, and the premature disclosure of research information could significantly compromise the implementation of proposed agency action regarding such research projects. As provided by subsection 10(d) of Public Law 92-463, as amended by Public Law 94-409, closing the meeting is in accordance with 5 U.S.C. 552b(c)(6) and (9)(B).

No oral or written comments will be accepted from the public for either portion of the meetings. Those who plan to participate on a telephone conference call during the open portion of a subcommittee meeting should contact Ms. Kristy Benton-Grover, Designated Federal Officer and Program Manager, Scientific Merit Review Board, Department of Veterans Affairs, Health Services Research and Development Service (10P9H), 810 Vermont Avenue NW., Washington, DC, 20420. For further information, please call Mrs. Benton-Grover at (202) 443-5728 or by email at kristy.benton-grover@va.gov.

Dated: February 15, 2013.
By Direction of the Secretary.
Vivian Drake,
Committee Management Officer.

[FR Doc. 2013-04049 Filed 2-21-13; 8:45 am]

BILLING CODE P